DEPARTMENT OF TRANSPORTATION

Pipeline and Hazardous Materials Safety Administration

49 CFR Parts 191 and 192

[Docket No. PHMSA-2019-0225]

Pipeline Safety: Frequently Asked Questions on the Gas Transmission Rule

AGENCY: Pipeline and Hazardous Materials Safety Administration (PHMSA), DOT.

ACTION: Notification and request for comments.

SUMMARY: PHMSA is seeking public comment on a second set of draft frequently asked questions (Batch-2 FAQs) to facilitate implementation of its final rule titled “Safety of Gas Transmission Pipelines: MAOP Reconfirmation, Expansion of Assessment Requirements, and other Related Amendments” (Gas Transmission Rule).

DATES: Comments on the draft Batch-2 FAQs should be submitted to Docket No. PHMSA-2019-0225 no later than March 16, 2021.

ADDRESSES:

• E-Gov Web: http://www.regulations.gov. This site allows the public to enter comments on any Federal Register notice issued by any agency. Follow the online instructions for submitting comments.

• Mail: Docket Management System: U.S. Department of Transportation (DOT), West Building, Ground Floor, 1200 New Jersey Avenue SE, Room W12-140, Washington, DC 20590-0001.

• Hand Delivery: DOT Docket Management System: West Building, Ground Floor, Room W12-140, 1200 New Jersey Avenue SE, between 9:00 a.m. and 5:00 p.m. EST, Monday through Friday, except federal holidays.

• Fax: 202-493-2251.

• Instructions: Identify the Docket Number PHMSA-2019-0225 at the beginning of your comments. If you submit your comments by mail, submit two copies. If you wish to receive confirmation that PHMSA received your comments, include a self-addressed stamped postcard. Internet users may submit comments at http://www.regulations.gov.

• Privacy Act: DOT may solicit comments from the public regarding certain general notices. DOT posts these comments, without edit, including any personal information the commenter provides, to www.regulations.gov, as described in the system of records notice (DOT/ALL-14 FDMS), which can be reviewed at www.dot.gov/privacy.

• Confidential Business Information: Confidential Business Information (CBI) is commercial or financial information that is both customarily and actually treated as private by its owner. Under the Freedom of Information Act (FOIA) (5 U.S.C. 552), CBI is exempt from public disclosure. If your comments responsive to this document contain commercial or financial information that is customarily treated as private, that you actually treat as private, and that is relevant or responsive to this document, it is important that you clearly designate the submitted comments as CBI. Pursuant to 49 CFR 190.343, you may ask PHMSA to give confidential treatment to information you give to the agency by taking the following steps: (1) Mark each page of the original document submission containing CBI as “Confidential,” (2) send PHMSA, along with the original document, a second copy of the original document with the CBI deleted, and (3) explain why the information you are submitting is CBI. Unless you are notified otherwise, PHMSA will treat such marked submissions as confidential under FOIA, and the submissions will not be placed in the public docket of this notification. Submissions containing CBI should be sent to Chris Hoidal at Pipeline and Hazardous Materials Safety Administration, Western Region, PHP-500, 12300 W. Dakota Avenue, Suite 110, Lakewood, CO 80228. Any commentary PHMSA receives that is not specifically designated as CBI will be placed in the public docket for this matter.

• Docket: For access to the docket to read background documents or comments received, go to http://www.regulations.gov. Follow the online instructions for accessing the dockets. Alternatively, you may review the documents in person at DOT in the West Building, Ground Floor, Room W12-140, 1200 New Jersey Avenue SE, between 9:00 a.m. and 5:00 p.m. ET, Monday through Friday, except federal holidays.

FOR FURTHER INFORMATION CONTACT:

General: Chris Hoidal, Senior Technical Advisor, Office of Pipeline Safety, by telephone at 303-807-8833, or email at chris.hoidal@dot.gov.

Technical: Steve Nanney, Project Manager, Office of Pipeline Safety, by telephone at 713-272-2855, or email at steve.nanney@dot.gov.

SUPPLEMENTARY INFORMATION: PHMSA provides written clarification of the pipeline safety regulations (49 CFR parts 190-199) in the form of periodically updated FAQs and other guidance materials. On October 1, 2019, PHMSA published amendments to 49 CFR parts 191 and 192 in the Gas Transmission final rule (84 FR 52180), which addressed several statutory mandates from the Pipeline Safety, Regulatory Certainty, and Job Creation Act of 2011 (Pub. L. 112-90). PHMSA finalized the first set of FAQs (Batch-1 FAQs) to help clarify, explain, and promote better understanding of the Gas Transmission final rule. The Batch-1 FAQs were posted to the docket on September 16, 2020.

PHMSA is requesting public comment on a second set of draft FAQs (Batch-2 FAQs) pertaining to the Gas Transmission final rule. The Batch-2-FAQs are intended to help the public understand and implement necessary changes in response to PHMSA's new regulations. They are in response to specific questions received from the regulated community, pipeline safety regulators, and the public. Operators and state regulators may also request written regulatory interpretations from PHMSA regarding specific situations in accordance with 49 CFR 190.11.

While FAQs are provided to help the public understand how to comply with the regulations, they are not substantive rules themselves and do not create legally enforceable rights, assign duties, or impose new obligations not otherwise contained in the existing regulations and standards. However, an operator who is able to demonstrate compliance with the FAQs is likely to be able to demonstrate compliance with the relevant regulations.

The draft FAQs and other supporting documents are available online on the Federal eRulemaking Portal, https://www.regulations.gov; search for Docket No. PHMSA-2019-0225. Before finalizing the draft FAQs, PHMSA will evaluate all comments received on or before the comment closing date. Comments received after the closing date will be evaluated to the extent

practicable. Once finalized, the FAQs will be posted in the docket and on PHMSA's public website at https://www.phmsa.dot.gov.

Issued in Washington, DC on December 22, 2020, under authority delegated in 49 CFR 1.97.
Alan K. Mayberry,
Associate Administrator for Pipeline Safety.

[FR Doc. 2020-28777 Filed 1-14-21; 8:45 am]

BILLING CODE 4910-60-P